DEPARTMENT OF HEALTH AND HUMAN SERVICES

Administration for Children and Families

Office of Refugee Resettlement

Funding Opportunity Title: Discretionary Funds for Projects to Establish Individual Development Account (IDA) Programs for Refugees.

Announcement Type: Initial.

Funding Opportunity Number: HHS-2005-ACF-ORR-ZI-0093.

CFDA Number: 93.576.

Due Date for Applications: Application is due July 21, 2005.

Executive Summary:

The Office of Refugee Resettlement (ORR) invites eligible entities to submit competitive grant applications for projects to establish and manage Individual Development Accounts (IDAs) for low-income refugee participants. Eligible refugee participants who enroll in these projects will open and contribute systematically to IDAs for specified Savings Goals, including home ownership, business capitalization, vehicles for educational or work purposes, and postsecondary education. Grantees may use ORR funds to provide matches for the savings in the IDAs up to $2,000 per individual refugee and $4,000 per refugee household. Applications will be screened and evaluated as indicated in this program announcement. Awards will be contingent on the outcome of the competition and the availability of funds.

I. Funding Opportunity Description

Legislative Authority: Section 412(c)(1)(A) of the Immigration and Nationality Act (INA)(8 U.S.C. 1522(c)(1)(A)) authorizes the Director “to make grants to, and enter into contracts with, public or private nonprofit agencies for projects specifically designed—(i) to assist refugees in obtaining the skills which are necessary for economic self-sufficiency, including projects for job training, employment services, day care, professional refresher training, and other recertification services; (ii) to provide training in English where necessary (regardless of whether the refugees are employed or receiving cash or other assistance); and (iii) to provide services where specific needs have been shown and recognized by the Director, health (including mental health) services, social services, educational and other services.”

Discretionary Funds for Projects To Establish Individual Development Account (IDA) Programs for Refugees

1. Description:

Program Purpose and Objectives: The Office of Refugee Resettlement invites qualified entities to submit competing grant applications for new projects that will establish, support, and manage Individual Development Accounts (IDAs) for eligible low-income refugee individuals and families. The Refugee IDA Program represents an anti-poverty strategy built on asset accumulation for low-income refugee individuals and families with the goal of promoting refugee economic independence. In particular, the objectives of this program are to: encourage regular saving habits among refugees; promote their participation in the financial institutions of this country; promote refugee acquisition of assets to build individual, family, and community resources; increase refugee knowledge of financial and monetary topics; assist refugees in advancing their education; increase home ownership among refugees; and assist refugees in gaining access to capital. These new projects will accomplish these objectives by establishing programs that combine the provision of matched savings accounts with financial training and counseling.

Eligibility:

Eligibility for this program is limited to refugees:

• Who are not yet citizens regardless of their date of arrival in the U.S. (However, refugees who arrived in the U.S. within the last five years have priority for services.);

• Who have earned income;

• Whose household earned income at time of enrollment does not exceed 200 percent of the federal poverty level; and

• Whose assets at time of enrollment do not exceed $10,000, excluding the value of a primary residence and one vehicle.

Please refer to the Definition of Terms section for the definition of “household”. The 2004 Poverty Guidelines may be found at http://aspe.hhs.gov/poverty/04poverty.shtml.

Asset Goals:

Grantees, in partnership with qualified financial institutions, will create Individual Development Accounts for refugee participants. Refugee participants will systematically contribute to the IDAs out of earned income to purchase specified Savings Goals. The primary focus of the Savings Goals in their IDA program should be the following:

• Home Purchase;

• Postsecondary Education, Vocational Training, or Recertification; and

• Microenterprise Capitalization.

In cases of documented necessity, the purchase of an automobile is allowable for the purposes of employment or education. Automobiles may only constitute 10 percent of a program, with 90 percent of the match funds obligated to the other goals. The purpose of an automobile purchase must be thoroughly justified and well documented. Additional information on these Savings Goals is provided in the Definition of Terms section of this announcement.

Supplemental IDA and Administrative Funds:

ORR strongly recommends applicants to include in their applications commitment, or plan for developing a commitment of, additional public or private funds for matching IDA deposits, operational overhead, and training. These funds will supplement ORR funds in order to serve greater numbers of refugees and assist the program in its future sustainability. If additional funds have been secured, documentation should be provided in the application in writing, executed with the entity providing the non-ORR contribution on letterhead of the entity, and signed by a person authorized to make a commitment on behalf of the entity.

Savings Plan Agreement and Documentation:

The grantee will establish a “Savings Plan Agreement” with each refugee participant. The Savings Plan Agreement must include:

(1) A proposed schedule of savings deposits by the participant;

(2) The rate at which the participant's savings will be matched;

(3) The Savings Goal(s) for which the account is maintained;

(4) Any training or counseling which the participant agrees to attend;

(5) An agreement that the participant will not withdraw funds except for the specified Savings Goal or for an emergency and only after notification to the grantee;

(6) A statement by the participant that the participant has not received the maximum allowable match from any other ORR-funded IDA program;

(7) A procedure for amending the Agreement;

(8) A date by which asset must be purchased or the date on which the program will end;

(9) A designation of beneficiary; and

(10) If saving for a vehicle, a statement by the participant that the vehicle will be used for the purpose of maintaining or upgrading employment or for the purpose of transportation for postsecondary education, vocational training, or recertification.

Applicants under this grant announcement may propose additional provisions to be included in Savings Plan Agreements. In addition to the Savings Plan Agreement, grantees must collect and maintain documentation showing supplementary confirmation of the client's household budget, assets and liabilities, and earned income (this can be in the form of pay stubs, tax returns, etc.). ORR strongly suggests that each participant provide an overall household budget plan, describing how their IDA savings will derive from their discretionary income.

Appropriate documentation for the usage of an automobile could include: calculation of long distances from the participant's home to their place of employment or educational institution, bus schedules showing unreasonable time tables and connections, and the anticipation of increased wages due to more time on the job or access to better wages or employment due to reduced commuting time.

Accounts and Drawdown of Funds:

The IDA contains only the refugee participant's deposits and interest earned on those deposits. Grantees may establish non-interest bearing IDA accounts for participants only with ORR approval. The grantee will create one Parallel Account, separate from the participants' IDAs, at a qualified financial institution in which all matching ORR grant funds will be deposited and maintained on behalf of the refugee participants. Drawdown of the ORR grant funds and deposit of those funds into the Parallel Account will be permitted no earlier than the time of the refugee's deposit to the IDA. Grantees must draw down ORR funds for matching IDA deposits within three months of the date that the refugee participant makes the deposit, and must continue to draw down at least on a quarterly basis thereafter as participants make deposits.

Program Income:

The interest that accrues on the ORR matching funds deposited in the parallel account must be used to enroll additional refugee participants or to match interest earned on the refugee participant's deposits. The interest on the match funds in the parallel account may not be retained by the grantee for any purpose, including program administration, participant support services, or program data collection. (See 45 CFR 74.24(b)(1))

Match Funds:

ORR funds may be used at a matching rate no greater than one-to-one for each dollar deposited in the IDA by the refugee participant. Grantees may choose to vary the amount of the match by type of Savings Goal and/or by income level of the refugee participants, such as limiting the total match for automobiles to $1,000. Over the course of the five-year project period, not more than $2,000 in ORR grant funds may be provided through matching contributions to any one refugee individual and not more than $4,000 may be provided to any one refugee household (see the Definition of Terms section for the definition of “household”). When the refugee purchases the Savings Goal, the grantee must provide payment of the participant's IDA matching funds directly to the asset vendor. Applicants must provide ORR with information on the impact of IDA savings and match on refugee eligibility for public benefits, and must submit alternative maximum match limits to ORR for review if necessary.

Training:

Applicants must incorporate in these projects financial training for the refugee participants. The training may be provided directly by the grantee or the grantee may choose to provide the training through subgrantees or other providers; grantees are strongly encouraged to partner with other community agencies already providing general financial or asset-specific training. The training provided by a grantee should reflect both the refugee population and the Savings Goals to be included in the program. Such training should include budgeting, cash management, savings, investment, and credit counseling. Specialized training and technical assistance should be provided for refugee participants for each Savings Goal provided through the program. Although the applicant listed on the Savings Plan Agreement should be the person who attends the training, the entire household should be encouraged to participate.

Close Out and Client Withdrawals:

Under these projects, grantees should schedule their account activities so that all IDA accounts reach their maximum savings, and refugee participants have purchased their Savings Goal, within the five-year project period. If educational tuition or fees are paid in installments to an institution, grantee must establish a plan to return funds to the government if all of the match money is not utilized by the student. If the participant stops contributing towards their IDA for a period of three months without grantee approval, or fails to meet his/her savings goal, the grantee may use those funds to enroll another participant. If a participant has failed to meet their savings goal and purchase their asset at the end of the project period, the grantee must return the matching funds to the government in accordance with 45 CFR 74.71.

Definition of Terms:

Individual Development Accounts (IDAs) are leveraged, or matched, savings accounts. IDAs are established in insured accounts in qualified financial institutions. The funds are intended for the Savings Goals specified in this announcement. Although the refugee participant maintains control of all funds that the participant deposits in the IDA, including all interest that may accrue on the funds, the participant must sign a Savings Plan Agreement with the grantee that specifies that the funds in the account will be used only for the participant's Savings Goal or for an emergency withdrawal. A signed Savings Plan Agreement is required for the refugee participant to be eligible for matching funds.

A “household” is an applicant and all other persons living as an individual economic unit at one address that submits a single federal tax return.

The Savings Goals, as specified below, are the purchases/investments for which the matching funds are available when used in conjunction with the savings from the IDAs of refugee participants. The Savings Goal specified by a participant in the Savings Plan Agreement may be for the benefit of the refugee participant or of a refugee dependent (children under 21 years of age who are dependent on an adult for their livelihood) of the refugee participant. Purchase of any savings goal should not create an excessive debt burden for the refugee participant. Primary Savings Goals are defined as follows:

• Home Ownership: includes costs of a principal residence including the down payment and closing costs when purchasing a home. The purchaser must be a first-time homebuyer. Prior to approval for a client to save for this asset, the grantee must assess the likelihood that the client can obtain appropriate financing prior to the end of the project period. Grantee must also assess client's abilities to maintain a mortgage and the upkeep of a home.

• Microenterprise Capitalization: means costs for a micro-business described in a qualified business plan, such as capital, plant, equipment, working capital, and inventory expenses. The business plan must be approved by a financial institution, a microenterprise development organization, or a non-profit loan fund. The plan must also describe services or goods to be sold and include a marketing plan and projected financial statements.

• Post-secondary Education, Vocational Training, and Recertification: Tuition or fees, professional recertification fees, books, supplies, and equipment, including a computer, related to the enrollment or attendance of a refugee student at an educational institution. Funds may be used for a dependent refugee if that child begins postsecondary education or vocational training within the project period. Proof of enrollment must be documented in the client's file.

The Purchase of an Automobile is defined as a vehicle that is a documented necessity for the purpose of maintaining or upgrading employment or for the purpose of transportation for postsecondary education, vocational training, or recertification. Accounts established for automobiles must represent less than 10 percent of all those established. Funds can be used for the actual cost of the vehicle as well as one-time fees and taxes associated with the purchase of the vehicle. Vehicles may not be purchased through auctions.

Qualified financial institution means a Federally insured bank or credit union or a State-insured bank or credit union if no Federally insured bank or credit union is available.

A Parallel Account is an insured account opened by the grantee in a qualified financial institution for the purpose of depositing the matching funds for the savings deposited by refugee participants in their individual IDAs. Interest earned on the matching funds must remain in the Parallel Account and be used to enroll additional refugee participants or to match the interest earned on the refugee participant's deposits. The matching funds must be made available to the refugee participant at the time that the participant purchases the Savings Goal. The matching funds are not available to the refugee participant except for the Savings Goals defined in this announcement.

An emergency withdrawal is a withdrawal of funds, or a portion of funds, deposited by the refugee participant in his/her Individual Development Account. The withdrawal may also include any of the interest that may have accrued to the participant's savings in the account but does not include any matching funds. The participant must notify the project grantee of the withdrawal prior to the withdrawal. Causes for emergency withdrawals include, but are not limited to, medical expenses, payments to prevent eviction or foreclosure, or payments for necessary living expenses. If funds withdrawn for emergency purposes are not repaid within 12 months, the refugee participant forfeits the match on those funds. Emergency withdrawals may never be authorized from the Parallel Account(s).

II. Award Information

Funding Instrument Type: Grant.

Anticipated Total Priority Area Funding:$1,500,000.

Anticipated Number of Awards: 7 to 8.

Ceiling on Amount of Individual Awards Per Budget Period:$400,000.

Average Projected Award Amount Per Budget Period:$200,000.

Length of Project Periods: 60 month project with five 12 month budget periods.

Funds designated for the purpose of providing matches for the refugee IDA accounts should be approximately 75 percent of the total project. ORR funds not used for such matches may be used for such other purposes to include, but not be limited to, the administrative and operational costs of the project and for financial training, counseling, and technical assistance. “Administrative and operational costs” are defined as anything pertaining to the management of the operation of the grant by the grantee or subgrantee (if applicable); these costs may be slightly higher or lower in any one budget period.

The Director reserves the right to award more or less than the funds described in the absence of worthy applications or such other circumstances as may be deemed to be in the best interest of the government. Applicants may be required to reduce the scope of selected projects based on the amount of the approved grant award.

III. Eligibility Information

1. Eligible Applicants

State Governments, County governments, City or township governments, Non-profits having a 501(c)(3) status with the IRS, other than institutions of higher education, Non-profits that do not have a 501(c)(3) status with the IRS, other than institutions of higher education.

Additional Information on Eligibility:

Eligible non-profit organizations include faith-based and community organizations. Applicants must also provide documentation of participation of a qualified financial institution(s) in the project. This documentation must be in writing, on letterhead of the financial institution, and signed by a person authorized to make the commitment on behalf of the financial institution. The documentation must include a commitment by the financial institution to establish IDAs for the refugee participants, to establish a parallel account (or accounts) for the matching funds, and to provide the grantee with account activity data on the IDAs and the parallel account(s) in a timely manner.

Successful grantees will be expected to coordinate their policies and procedures for developing and administering refugee IDA projects with ORR and with the existing refugee IDA network. To ensure an exchange of technical and training information among programs, all grantees are encouraged to attend up to two ORR training meetings during each year of their participation in this program area. Grant funds may be used to offset the cost of attendance. Additionally, agencies may be asked to participate in an ORR-initiated program evaluation.

2. Cost Sharing/Matching

No.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

Sylvia Johnson, Grants Management Officer, Office of Grants Management, Administration for Children and Families, 370 L'Enfant Promenade SW., 4th Floor West, Washington, DC 20447, Phone: 202-401-5513. E-mail: ACFOGME-Grants@acf.hhs.gov. URL: www.acf.hhs.gov/programs/orr.

2. Content and Form of Application Submission

ACF is particularly interested in specific factual information and statements of measurable goals in quantitative terms. Project descriptions are evaluated on the basis of substance, not length. Extensive exhibits are not required. Cross-referencing should be used rather than repetition. Supporting information concerning activities that will not be directly funded by the grant or information that does not directly pertain to an integral part of the grant-funded activity should be placed in an appendix. A table of contents and an executive summary should be included. The application narrative should be in a 12-pitch font with a 25 page narrative limit (up to an additional 20 pages of attachments are allowable, not including letters of support, table of contents, executive summary, or standard forms and certifications). Reviewers may disregard any narrative over the page limit. Each page should be numbered sequentially, including any attachments or appendices. Please do not staple or in any way bind the application other than with a rubber band or clip. Please do not include books or videotapes as they are not easily reproduced and are, therefore, inaccessible to reviewers.

You may submit your application to us in either electronic or paper format.

To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants that are submitting their application in paper format should submit an original and two copies of the complete application. An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within P.L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1, for instructions on preparing the full project description.

3. Submission Dates and Times

Due Date for Applications: August 5, 2005.

Explanation of Due Dates:

The closing date for submission of applications is referenced above. Mailed applications postmarked after the closing date will be classified as late.

Deadline: Mailed applications shall be considered as meeting an announced deadline if they are either received on or before the deadline date or sent on or before the deadline date and received by ACF in time for the independent review referenced in Section IV.6.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand carried by applicants, applicant couriers, or by other representatives of the applicant shall be considered as meeting an announced deadline if they are received on or before the deadline date, between the hours of 8 a.m. and 4:30 p.m., eastern time, at the address referenced in Section IV.6., between Monday and Friday (excluding Federal holidays). Applicants are cautioned that express/overnight mail services do not always deliver as agreed.

ACF cannot accommodate transmission of applications by fax. Therefore, applications transmitted to ACF by fax will not be accepted regardless of date or time of submission and time of receipt.

Receipt acknowledgement for application packages will not be provided to applicants who submit their package via mail, courier services, or by hand delivery. However, applicants will receive an electronic acknowledgement for applications that are submitted via http://www.Grants.gov.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rest with the Chief Grants Management Officer.

Checklist:

You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 |  | By date of award.
Support Letters | V | Provide statements from community, public and commercial leaders that support the project proposed for funding. | All submissions should be included in the application OR by application deadline.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form. | Found in http://www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc. does not have a SPOC. Therefore, applicants from these jurisdictions, or for projects administered by Federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

See Section II for information on IDA match requirements.

6. Other Submission Requirements

Submission by Mail: An applicant must provide an original application with all attachments, signed by an authorized representative and two copies. Please see Section IV.3 for an explanation of due dates. Applications should be mailed to: Sylvia Johnson, Grants Management Officer, Office of Grants Management, Administration for Children and Families, 370 L'Enfant Promenade SW., 4th Floor West, Washington, DC 20447.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Sylvia Johnson, Administration for Children and Families, Office of Grants Management, ACF Mailroom, Second Floor (near loading dock), Aerospace Center, 901 D Street, SW., Washington, DC 20024.

Electronic Submission: http://www.Grants.gov. Please see Section IV.2 for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Part II—General Instructions for Preparing a Full Project Description

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, ORR is particularly interested in the projected outcomes for the refugee participants, including the number of IDAs established, the amount of savings by refugee participants, the number and size of withdrawals for each of the Savings Goals, and the impact of the purchase of the Savings Goal on the refugee participant's movement toward self-sufficiency.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) a reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Evaluation Criteria:

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—30 points

(a) Narrative Work Plan—The application provides a clear explanation of a feasible, appropriate, and complete plan for establishing and managing IDAs for the refugee participants and for leveraging any additional non-Federal financial matching resources that may have been or may be committed. The plan clearly describes the structure, uses, requirements, and management of the IDAs and includes procedures for managing the Parallel Account, ensuring that interest on the matches is utilized to enroll additional refugee participants or to match interest earned on the refugee participant's deposits, providing financial training appropriate to the refugee population and to the Savings Goals included in the project, and closing all IDAs within the project period. Describes all major elements, activities, and procedures such as those listed below. (Provide expected outcomes for each activity.)

(i) Selecting and training key staff for the project.

(ii) After researching public benefits and the impact of IDAs on benefits for the applicant's clients, provide a proposed plan to ensure public benefits are not adversely affected by the IDA.

(iii) Establishing and maintaining the Parallel Account.

(iv) Developing protocols for managing the Parallel Account, including a system for allocating interest income to enroll additional project participants or to match interest earned on the refugee participant's deposits.

(v) Establishing strong working relationships with one or more financial institution(s) that will participate in the project.

(vi) Establishing and maintaining IDAs for each participant.

(vii) Providing basic financial education and asset-specific training to participants.

(viii) Developing Savings Plan Agreements with participants and working with them to save in accordance with the plan.

(ix) Providing payments of participants' IDA match directly to the asset vendors for each of the Savings Goals.

(x) Assisting participants who have difficulty completing the financial education or meeting the requirements of their Savings Plan Agreement.

(xi) Ensuring that participants use IDA funds appropriately.

(xii) Ensuring that project participants purchase an eligible asset within the project period.

(xiii) Providing required financial and programmatic reports to ACF.

(xiv) Self-evaluation of the overall project goals and accomplishments.

(b) Timeline—Applicant should provide a timeline of services, keeping in mind that generally the first and last years of the project require a higher concentration on administrative services. The timeline should be consistent with the proposed budget, reflect key activities outlined in the narrative work plan, and ensure that all project participants complete their financial education, finish saving, and purchase their asset prior to the end of the project period. Applicants are strongly encouraged to present the timeline in the format of a Gantt chart.

(c) Additional Financial Resources—To the extent possible, applicants provide a plan for obtaining cash or in-kind funds from other sources using the ORR IDA funds to leverage these additional non-Federal financial matching resources.

Results or Benefits Expected—20 points

The outcomes and benefits proposed are reasonable and reflect the objectives of this announcement. Explain how the project will produce results by specifying short and long-term measurable outcomes. Describe the strategy for collecting and validating data for use in program management, monitoring and evaluation. Describe the electronic management information system that the applicant will use for project data. The methodology proposed for collecting outcome data should be reasonable.

Organizational Profiles—20 points

Applicant organization, staff and partner organizations have demonstrated capability to implement and manage new programs and to recruit and work with the refugee population. The applicant has developed a partnership with a financial institution(s) to implement the IDAs. Applicant should discuss previous IDA grants administered by the agency and the IDA program outcomes, fiscal abilities, and evidence that they have gained the trust of the refugee community. Discuss instances of managing grants of the same size as you are requesting here.

Additionally, applicant should list public and private non-profit and for-profit organization(s), qualified financial institution(s), or microenterprise development organization(s) that will participate in the proposed project. For example, list partner organization(s) to review and approve refugee business plans for a microenterprise asset. Provide a description of the roles and responsibilities of each organization. Describe how additional partners will be recruited throughout the project period.

Budget and Budget Justification—15 points

The budget is reasonable and clearly justified. The methodologies for estimating the number of refugee participants and amount of matching funds are reasonable. Seventy-five percent of the ORR grant funds are designated for the purpose of providing matches for the refugee IDA accounts.

Objectives and Need for Assistance—15 points

The application identifies the refugee population to be assisted by this project and describes the need for assistance of this population. Indicators of the need for assistance include low rates of home ownership, education, access to capital, and use of financial institutions and high rates of reliance on public assistance and of incomes below 200 percent of the Federal poverty level. Applicant should demonstrate knowledge of refugee communities and potential clients.

2. Review and Selection Process

No grant award will be made under this announcement on the basis of an incomplete application.

The ORR Director and program staff use review panel scores when considering competing applications. Review panel scores will weigh heavily in funding decisions, but will not be the only factors considered. Applications generally will be considered in order of the average scores assigned by the review panel. Because other important factors are taken into consideration, highly ranked applications are not guaranteed funding. These other considerations include the timely and proper completion by the applicant of projects funded with ORR funds granted in the last five (5) years; comments of reviewers and government officials; ORR staff evaluation and input; amount and duration of the grant requested and the proposed project's consistency and harmony with ORR goals and policy; administrative costs associated with any sub-grantees; geographic distribution of applications; previous program performance of applicants; compliance with grant terms under previous HHS grants; audit reports; investigative reports; and applicant's progress in resolving any final audit disallowance on previous ORR or other Federal agency grants.

Approved but Unfunded Applications

Applications that are approved but unfunded may be held over for funding in the next funding cycle pending the availability of funds for a period not to exceed one year.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Direct Federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

3. Reporting Requirements

Program Progress Reports: Quarterly.

Financial Reports: Semi-Annually.

Grantees will be required to submit program progress and financial reports (SF 269) throughout the project period. Program progress and financial reports are due 30 days after the reporting period. In addition, final programmatic and financial reports are due 90 days after the close of the project period.

VII. Agency Contacts

Program Office Contact: Lisa Campbell, Project Officer, Office of Refugee Resettlement, 370 L'Enfant Promenade SW., 8th Floor West, Washington, DC 20447, phone: 202-205-4597, e-mail: lcampbell@acf.hhs.gov.

Grants Management Office Contact: Sylvia Johnson, Grants Management Officer, Office of Grants Management, 370 L'Enfant Promenade SW., 4th Floor West, Washington, DC 20447, phone: 202-401-5513, e-mail: ACFOGME-Grants@acf.hhs.gov.

VIII. Other Information

Notice: Beginning with FY 2005, the Administration for Children and Families (ACF) will no longer publish grant announcements in the Federal Register. Beginning October 1, 2005, applicants will be able to find a synopsis of all ACF grant opportunities and apply electronically for opportunities via: http://www.Grants.gov. Applicants will also be able to find the complete text of http://www.acf.hhs.gov/grants/index.html.

Please reference Section IV.3 for details about acknowledgement of received applications.

ORR typically sponsors two training workshops per year, and applicants should budget accordingly.

Dated: June 1, 2005.
Nguyen Van Hanh,
Director, Office of Refugee Resettlement.

[FR Doc. 05-11198 Filed 6-3-05; 8:45 am]

BILLING CODE 4184-01-P